DEPARTMENT OF LABOR

Employment and Training Administration

[TA-W-60,786]

Hanes Brands, Inc., a/k/a Hanes Menswear, Ponce, PR; Notice of Termination of Investigation

Pursuant to Section 221 of the Trade Act of 1974, an investigation was initiated on January 18, 2007 in response to a worker petition filed by a company official on behalf of workers at Hanes Menswear, a/k/a Hanes Brands, Inc., Ponce, Puerto Rico.

The petitioning group of workers is covered by an active certification, (TA-W-60,915), which expires on February 13, 2009. Consequently, further investigation in this case would serve no purpose, and the investigation has been terminated.

Signed at Washington, DC this 13th day of February, 2007.
Richard Church,
Certifying Officer, Division of Trade Adjustment Assistance.

[FR Doc. E7-3276 Filed 2-26-07; 8:45 am]

BILLING CODE 4510-FN-P